DEPARTMENT OF LABOR

Employment and Training Administration

Employment and Training Administration Program Year (PY) 2008 Workforce Investment Act (WIA) Allotments and Additional Funds From WIA Section 173(e) for Adult/Dislocated Worker Activities for Eligible States; PY 2008 Wagner-Peyser Act Final Allotments; PY 2008 Workforce Information Grants and FY 2008 Work Opportunity Tax Credit Allotments

AGENCY: Employment and Training Administration, Labor.

ACTION: Notice; correction.

SUMMARY: The Department of Labor published a notice in the Federal Register on March 28, 2008, concerning the announcement of the WIA Allotments to States. The notice did not contain attachments. This correction notice contains the attachments.

FOR FURTHER INFORMATION CONTACT: Mike Qualter at 202-693-3014 or Sherril Hurd at 202-693-3700.

Correction

In the Federal Register of March 28, 2008, in FR Doc. E8-6331, on page 16,723, the attachments (i.e., allotment tables), are missing.

Attachment I

U.S. Department of Labor Employment and Training Administration—WIA Youth Activities State Allotments
[Comparison of PY 2008 vs PY 2007]
State | PY 2007 | PY 2008 | Difference | Percent difference
Total | $940,500,000 | $924,069,465 | ($16,430,535) | −1.75
Alabama | 11,383,779 | 10,066,414 | (1,317,365) | −11.57
Alaska | 3,397,074 | 3,401,753 | 4,679 | 0.14
Arizona | 16,928,408 | 15,410,351 | (1,518,057) | −8.97
Arkansas | 8,704,080 | 10,427,807 | 1,723,727 | 19.80
California | 123,174,266 | 131,478,160 | 8,303,894 | 6.74
Colorado | 11,606,195 | 10,263,091 | (1,343,104) | −11.57
Connecticut | 7,654,637 | 7,422,406 | (232,231) | −3.03
Delaware | 2,310,103 | 2,269,746 | (40,357) | −1.75
District of Columbia | 3,587,417 | 3,430,967 | (156,450) | −4.36
Florida | 29,009,688 | 25,652,600 | (3,357,088) | −11.57
Georgia | 22,755,109 | 20,223,508 | (2,531,601) | −11.13
Hawaii | 2,718,713 | 2,404,095 | (314,618) | −11.57
Idaho | 2,590,227 | 2,290,478 | (299,749) | −11.57
Illinois | 46,092,387 | 41,245,377 | (4,847,010) | −10.52
Indiana | 21,588,482 | 20,463,638 | (1,124,844) | −5.21
Iowa | 4,627,175 | 4,091,704 | (535,471) | −11.57
Kansas | 6,909,843 | 6,155,030 | (754,813) | −10.92
Kentucky | 15,149,541 | 14,567,756 | (581,785) | −3.84
Louisiana | 19,559,318 | 17,295,855 | (2,263,463) | −11.57
Maine | 3,195,344 | 3,280,785 | 85,441 | 2.67
Maryland | 9,122,752 | 10,013,008 | 890,256 | 9.76
Massachusetts | 17,850,460 | 21,466,585 | 3,616,125 | 20.26
Michigan | 46,701,312 | 57,931,951 | 11,230,639 | 24.05
Minnesota | 8,599,824 | 10,984,461 | 2,384,637 | 27.73
Mississippi | 17,570,027 | 15,536,771 | (2,033,256) | −11.57
Missouri | 18,585,896 | 19,654,610 | 1,068,714 | 5.75
Montana | 2,310,103 | 2,269,746 | (40,357) | −1.75
Nebraska | 2,877,968 | 2,544,921 | (333,047) | −11.57
Nevada | 3,546,204 | 4,529,527 | 983,323 | 27.73
New Hampshire | 2,310,103 | 2,269,746 | (40,357) | −1.75
New Jersey | 17,825,428 | 16,249,272 | (1,576,156) | −8.84
New Mexico | 6,094,542 | 5,389,263 | (705,279) | −11.57
New York | 61,807,331 | 54,654,801 | (7,152,530) | −11.57
North Carolina | 21,556,371 | 19,061,803 | (2,494,568) | −11.57
North Dakota | 2,310,103 | 2,269,746 | (40,357) | −1.75
Ohio | 43,472,973 | 48,535,694 | 5,062,721 | 11.65
Oklahoma | 8,104,805 | 7,526,029 | (578,776) | −7.14
Oregon | 14,503,894 | 13,022,777 | (1,481,117) | −10.21
Pennsylvania | 35,296,474 | 32,746,691 | (2,549,783) | −7.22
Puerto Rico | 35,817,722 | 36,693,982 | 876,260 | 2.45
Rhode Island | 3,531,877 | 3,357,319 | (174,558) | −4.94
South Carolina | 20,827,321 | 21,357,908 | 530,587 | 2.55
South Dakota | 2,310,103 | 2,269,746 | (40,357) | −1.75
Tennessee | 21,188,759 | 19,653,705 | (1,535,054) | −7.24
Texas | 80,144,725 | 70,870,137 | (9,274,588) | −11.57
Utah | 4,952,465 | 4,379,351 | (573,114) | −11.57
Vermont | 2,310,103 | 2,269,746 | (40,357) | −1.75
Virginia | 10,603,936 | 9,462,211 | (1,141,725) | −10.77
Washington | 20,588,711 | 20,263,008 | (325,703) | −1.58
West Virginia | 5,222,378 | 4,618,029 | (604,349) | −11.57
Wisconsin | 10,844,691 | 11,934,438 | 1,089,747 | 10.05
Wyoming | 2,310,103 | 2,269,746 | (40,357) | −1.75
State Total | 924,041,250 | 907,898,249 | (16,143,001) | −1.75
American Samoa | 134,122 | 131,813 | (2,309) | −1.72
Guam | 1,091,714 | 1,072,924 | (18,790) | −1.72
Northern Marianas | 403,989 | 397,036 | (6,953) | −1.72
Palau | 76,932 | 75,000 | (1,932) | −2.51
Virgin Islands | 644,493 | 633,401 | (11,092) | −1.72
Outlying Areas Total | 2,351,250 | 2,310,174 | (41,076) | −1.75
Native Americans | 14,107,500 | 13,861,042 | (246,458) | −1.75

Attachment II

U.S. Department of Labor Employment and Training Administration—WIA Adult Activities State Allotments
[Comparison of PY 2008 vs PY 2007]
State | PY 2007 * | PY 2008 | Difference | Percent difference
Total | $851,760,360 | $861,540,083 | $9,779,723 | 1.15
Alabama | 10,840,649 | 9,868,607 | (972,042) | −8.97
Alaska | 3,146,739 | 3,247,854 | 101,115 | 3.21
Arizona | 15,680,890 | 14,729,041 | (951,849) | −6.07
Arkansas | 7,936,516 | 9,810,398 | 1,873,882 | 23.61
California | 115,577,245 | 126,947,190 | 11,369,945 | 9.84
Colorado | 10,180,681 | 9,267,816 | (912,865) | −8.97
Connecticut | 6,562,932 | 6,553,866 | (9,066) | −0.14
Delaware | 2,124,077 | 2,148,466 | 24,389 | 1.15
District of Columbia | 2,998,821 | 2,983,848 | (14,973) | −0.50
Florida | 28,602,326 | 26,037,659 | (2,564,667) | −8.97
Georgia | 20,696,197 | 18,958,899 | (1,737,298) | −8.39
Hawaii | 2,594,397 | 2,361,767 | (232,630) | −8.97
Idaho | 2,173,134 | 2,148,466 | (24,668) | −1.14
Illinois | 41,551,416 | 38,269,186 | (3,282,230) | −7.90
Indiana | 18,633,310 | 18,165,758 | (467,552) | −2.51
Iowa | 3,303,022 | 3,006,852 | (296,170) | −8.97
Kansas | 5,740,344 | 5,225,628 | (514,716) | −8.97
Kentucky | 15,671,741 | 15,059,258 | (612,483) | −3.91
Louisiana | 18,488,883 | 16,831,051 | (1,657,832) | −8.97
Maine | 2,929,076 | 3,100,278 | 171,202 | 5.84
Maryland | 8,395,178 | 9,494,842 | 1,099,664 | 13.10
Massachusetts | 15,571,808 | 19,481,186 | 3,909,378 | 25.11
Michigan | 42,323,775 | 54,246,181 | 11,922,406 | 28.17
Minnesota | 7,156,879 | 9,410,768 | 2,253,889 | 31.49
Mississippi | 15,912,960 | 14,486,102 | (1,426,858) | −8.97
Missouri | 16,728,626 | 18,196,254 | 1,467,628 | 8.77
Montana | 2,126,574 | 2,148,466 | 21,892 | 1.03
Nebraska | 2,124,077 | 2,148,466 | 24,389 | 1.15
Nevada | 3,453,857 | 4,541,567 | 1,087,710 | 31.49
New Hampshire | 2,124,077 | 2,148,466 | 24,389 | 1.15
New Jersey | 17,381,878 | 16,435,003 | (946,875) | −5.45
New Mexico | 5,650,332 | 5,143,687 | (506,645) | −8.97
New York | 59,076,349 | 53,779,185 | (5,297,164) | −8.97
North Carolina | 19,569,847 | 17,815,089 | (1,754,758) | −8.97
North Dakota | 2,124,077 | 2,148,466 | 24,389 | 1.15
Ohio | 39,222,543 | 45,226,257 | 6,003,714 | 15.31
Oklahoma | 7,461,542 | 7,058,963 | (402,579) | −5.40
Oregon | 13,250,724 | 12,236,847 | (1,013,877) | −7.65
Pennsylvania | 31,360,952 | 29,938,257 | (1,422,695) | −4.54
Puerto Rico | 36,464,382 | 38,358,961 | 1,894,579 | 5.20
Rhode Island | 2,860,276 | 2,820,312 | (39,964) | −1.40
South Carolina | 19,055,065 | 20,145,575 | 1,090,510 | 5.72
South Dakota | 2,124,077 | 2,148,466 | 24,389 | 1.15
Tennessee | 19,884,566 | 19,041,647 | (842,919) | −4.24
Texas | 72,960,506 | 66,418,400 | (6,542,106) | −8.97
Utah | 3,819,921 | 3,477,402 | (342,519) | −8.97
Vermont | 2,124,077 | 2,148,466 | 24,389 | 1.15
Virginia | 9,304,228 | 8,520,288 | (783,940) | −8.43
Washington | 18,477,618 | 18,747,476 | 269,858 | 1.46
West Virginia | 5,031,038 | 4,579,923 | (451,115) | −8.97
Wisconsin | 8,952,677 | 10,024,911 | 1,072,234 | 11.98
Wyoming | 2,124,077 | 2,148,466 | 24,389 | 1.15
State Total | 849,630,959 | 859,386,233 | 9,755,274 | 1.15
American Samoa | 118,412 | 122,595 | 4,183 | 3.53
Guam | 963,837 | 997,885 | 34,048 | 3.53
Northern Marianas | 356,667 | 369,268 | 12,601 | 3.53
Palau | 79,537 | 75,000 | (4,537) | −5.70
Virgin Islands | 610,948 | 589,102 | (21,846) | −3.58
Outlying Areas Total | 2,129,401 | 2,153,850 | 24,449 | 1.15
* Incl 1.747% rescission in FY08 Approp.

Attachment III

U.S. Department of Labor Employment and Training Administration—WIA Dislocated Worker Activities State Allotments
Comparison of PY 2008 vs PY 2007
State | Approp PY 2007 * | PY 2008 | Difference | Percent difference
Total | $1,453,384,800 | $1,464,707,055 | $11,322,255 | 0.78
Alabama | 9,546,799 | 9,164,775 | (382,024) | −4.00
Alaska | 6,068,367 | 6,262,335 | 193,968 | 3.20
Arizona | 13,050,015 | 11,442,222 | (1,607,793) | −12.32
Arkansas | 9,388,350 | 13,518,488 | 4,130,138 | 43.99
California | 135,886,106 | 168,253,920 | 32,367,814 | 23.82
Colorado | 12,459,990 | 11,038,608 | (1,421,382) | −11.41
Connecticut | 9,438,539 | 8,981,716 | (456,823) | −4.84
Delaware | 1,821,204 | 1,857,536 | 36,332 | 1.99
District of Columbia | 3,718,908 | 4,969,649 | 1,250,741 | 33.63
Florida | 29,747,065 | 31,390,061 | 1,642,996 | 5.52
Georgia | 32,397,883 | 23,975,835 | (8,422,048) | −26.00
Hawaii | 1,839,672 | 1,543,697 | (295,975) | −16.09
Idaho | 2,267,214 | 2,015,620 | (251,594) | −11.10
Illinois | 54,922,885 | 46,802,246 | (8,120,639) | −14.79
Indiana | 28,443,127 | 23,517,230 | (4,925,897) | −17.32
Iowa | 7,229,451 | 5,897,698 | (1,331,753) | −18.42
Kansas | 8,488,316 | 6,724,398 | (1,763,918) | −20.78
Kentucky | 27,501,508 | 27,195,336 | (306,172) | −1.11
Louisiana | 22,744,009 | 9,714,609 | (13,029,400) | −57.29
Maine | 3,784,926 | 3,640,936 | (143,990) | −3.80
Maryland | 12,964,681 | 12,572,045 | (392,636) | −3.03
Massachusetts | 24,280,081 | 28,504,646 | 4,224,565 | 17.40
Michigan | 91,027,451 | 130,811,617 | 39,784,166 | 43.71
Minnesota | 11,410,292 | 12,968,820 | 1,558,528 | 13.66
Mississippi | 33,769,326 | 27,431,802 | (6,337,524) | −18.77
Missouri | 21,433,310 | 25,404,238 | 3,970,928 | 18.53
Montana | 1,876,125 | 1,584,735 | (291,390) | −15.53
Nebraska | 3,698,759 | 3,186,136 | (512,623) | −13.86
Nevada | 4,460,932 | 5,820,504 | 1,359,572 | 30.48
New Hampshire | 2,393,582 | 2,745,638 | 352,056 | 14.71
New Jersey | 30,200,520 | 23,874,619 | (6,325,901) | −20.95
New Mexico | 4,806,924 | 3,650,372 | (1,156,552) | −24.06
New York | 68,170,151 | 50,790,224 | (17,379,927) | −25.49
North Carolina | 27,031,028 | 33,828,640 | 6,797,612 | 25.15
North Dakota | 1,089,819 | 1,171,809 | 81,990 | 7.52
Ohio | 63,093,747 | 79,971,002 | 16,877,255 | 26.75
Oklahoma | 7,325,070 | 7,326,043 | 973 | 0.01
Oregon | 20,963,644 | 20,499,936 | (463,708) | −2.21
Pennsylvania | 37,439,922 | 32,959,310 | (4,480,612) | −11.97
Puerto Rico | 55,846,372 | 69,218,517 | 13,372,145 | 23.94
Rhode Island | 5,063,273 | 4,600,258 | (463,015) | −9.14
South Carolina | 37,257,851 | 37,862,826 | 604,975 | 1.62
South Dakota | 1,511,389 | 1,459,759 | (51,630) | −3.42
Tennessee | 28,695,379 | 18,786,071 | (9,909,308) | −34.53
Texas | 92,723,152 | 57,630,386 | (35,092,766) | −37.85
Utah | 3,947,291 | 3,106,955 | (840,336) | −21.29
Vermont | 1,117,388 | 1,469,673 | 352,285 | 31.53
Virginia | 11,505,728 | 12,727,010 | 1,221,282 | 10.61
Washington | 26,339,385 | 22,166,920 | (4,172,465) | −15.84
West Virginia | 5,052,811 | 5,214,464 | 161,653 | 3.20
Wisconsin | 16,944,868 | 25,748,373 | 8,803,505 | 51.95
Wyoming | 811,855 | 839,299 | 27,444 | 3.38
State Total | 1,174,996,440 | 1,183,839,562 | 8,843,122 | 0.75
American Samoa | 201,936 | 208,423 | 6,487 | 3.21
Guam | 1,643,711 | 1,696,508 | 52,797 | 3.21
Northern Marianas | 608,255 | 627,794 | 19,539 | 3.21
Palau | 135,642 | 127,508 | (8,134) | −6.00
Virgin Islands | 1,041,901 | 1,001,535 | (40,366) | −3.87
Outlying Areas Total | 3,631,445 | 3,661,768 | 30,323 | 0.84
National Reserve | 274,756,915 | 277,205,725 | 2,448,810 | 0.89
* Incl 1.747% rescission in FY08.

Attachment IV

U.S. Department of Labor Employment and Training Administration—Additional PY 2008 Funding From Dislocated Worker National Emergency Reserve for Adult/Dislocated Worker Activities for Eligible States
State | WIA calculation | JTPA calculation | JTPA less: WIA | JTPA less: Quotient (percent) | Eligible* States | Additional $ *
Total | $859,386,233 | $859,256,225 | ($130,008) |  | 2 | $1,777,266
Alabama | 9,868,607 | 9,867,114 | (1,493) | 99.9849 |  |
Alaska | 3,247,854 | 3,237,531 | (10,323) | 99.6822 |  |
Arizona | 14,729,041 | 14,682,225 | (46,816) | 99.6822 |  |
Arkansas | 9,810,398 | 9,779,216 | (31,182) | 99.6822 |  |
California | 126,947,190 | 126,543,692 | (403,498) | 99.6822 |  |
Colorado | 9,267,816 | 9,266,414 | (1,402) | 99.9849 |  |
Connecticut | 6,553,866 | 6,533,035 | (20,831) | 99.6822 |  |
Delaware | 2,148,466 | 2,148,141 | (325) | 99.9849 |  |
DC | 2,983,848 | 2,974,364 | (9,484) | 99.6822 |  |
Florida | 26,037,659 | 26,033,720 | (3,939) | 99.9849 |  |
Georgia | 18,958,899 | 18,898,639 | (60,260) | 99.6822 |  |
Hawaii | 2,361,767 | 2,361,409 | (358) | 99.9848 |  |
Idaho | 2,148,466 | 2,148,141 | (325) | 99.9849 |  |
Illinois | 38,269,186 | 38,147,548 | (121,638) | 99.6822 |  |
Indiana | 18,165,758 | 18,108,019 | (57,739) | 99.6822 |  |
Iowa | 3,006,852 | 3,006,397 | (455) | 99.9849 |  |
Kansas | 5,225,628 | 5,224,838 | (790) | 99.9849 |  |
Kentucky | 15,059,258 | 15,011,392 | (47,866) | 99.6821 |  |
Louisiana | 16,831,051 | 16,828,505 | (2,546) | 99.9849 |  |
Maine | 3,100,278 | 3,090,424 | (9,854) | 99.6822 |  |
Maryland | 9,494,842 | 9,464,663 | (30,179) | 99.6822 |  |
Massachusetts | 19,481,186 | 19,419,266 | (61,920) | 99.6822 |  |
Michigan | 54,246,181 | 54,073,761 | (172,420) | 99.6822 |  |
Minnesota | 9,410,768 | 11,073,270 | 1,662,502 | 117.6660 | 1 | 1,662,502
Mississippi | 14,486,102 | 14,483,911 | (2,191) | 99.9849 |  |
Missouri | 18,196,254 | 18,138,418 | (57,836) | 99.6822 |  |
Montana | 2,148,466 | 2,148,141 | (325) | 99.9849 |  |
Nebraska | 2,148,466 | 2,148,141 | (325) | 99.9849 |  |
Nevada | 4,541,567 | 4,656,331 | 114,764 | 102.5270 | 1 | 114,764
New Hampshire | 2,148,466 | 2,148,141 | (325) | 99.9849 |  |
New Jersey | 16,435,003 | 16,382,765 | (52,238) | 99.6822 |  |
New Mexico | 5,143,687 | 5,142,909 | (778) | 99.9849 |  |
New York | 53,779,185 | 53,771,049 | (8,136) | 99.9849 |  |
North Carolina | 17,815,089 | 17,812,394 | (2,695) | 99.9849 |  |
North Dakota | 2,148,466 | 2,148,141 | (325) | 99.9849 |  |
Ohio | 45,226,257 | 45,082,507 | (143,750) | 99.6822 |  |
Oklahoma | 7,058,963 | 7,036,526 | (22,437) | 99.6821 |  |
Oregon | 12,236,847 | 12,197,952 | (38,895) | 99.6821 |  |
Pennsylvania | 29,938,257 | 29,843,099 | (95,158) | 99.6822 |  |
Puerto Rico | 38,358,961 | 38,237,038 | (121,923) | 99.6822 |  |
Rhode Island | 2,820,312 | 2,811,348 | (8,964) | 99.6822 |  |
South Carolina | 20,145,575 | 20,081,543 | (64,032) | 99.6822 |  |
South Dakota | 2,148,466 | 2,148,141 | (325) | 99.9849 |  |
Tennessee | 19,041,647 | 18,981,124 | (60,523) | 99.6822 |  |
Texas | 66,418,400 | 66,408,352 | (10,048) | 99.9849 |  |
Utah | 3,477,402 | 3,476,876 | (526) | 99.9849 |  |
Vermont | 2,148,466 | 2,148,141 | (325) | 99.9849 |  |
Virginia | 8,520,288 | 8,493,206 | (27,082) | 99.6821 |  |
Washington | 18,747,476 | 18,687,888 | (59,588) | 99.6822 |  |
West Virginia | 4,579,923 | 4,579,231 | (692) | 99.9849 |  |
Wisconsin | 10,024,911 | 9,993,047 | (31,864) | 99.6822 |  |
Wyoming | 2,148,466 | 2,148,141 | (325) | 99.9849 |  |
* Per WIA Sec. 173(e): Up to $15 million from Dislocated Workers Emergency reserve is to be made available to not more than 8 States with the largest ratio of JTPA formula amount to WIA formula amount.

Attachment V

U.S. Department of Labor Employment and Training Administration—Employment Service (Wagner-Peyser)
[PY 2008 final vs PY 2007 final allotments]
State | Final FY 2007* | Final FY 2008 | $ Difference | Percent difference
Total | $715,883,000 | $703,376,524 | ($12,506,476) | −1.75
Alabama | 9,347,342 | 9,274,795 | (72,547) | −0.78
Alaska | 7,586,322 | 7,646,039 | 59,717 | 0.79
Arizona | 12,092,949 | 12,160,434 | 67,485 | 0.56
Arkansas | 6,053,152 | 6,097,500 | 44,348 | 0.73
California | 79,764,170 | 80,393,798 | 629,628 | 0.79
Colorado | 10,939,634 | 10,962,418 | 22,784 | 0.21
Connecticut | 7,682,875 | 7,829,751 | 146,876 | 1.91
Delaware | 1,949,309 | 1,964,653 | 15,344 | 0.79
District of Columbia | 2,705,590 | 2,666,470 | (39,120) | −1.45
Florida | 34,464,846 | 36,484,397 | 2,019,551 | 5.86
Georgia | 19,969,831 | 20,131,714 | 161,883 | 0.81
Hawaii | 2,596,357 | 2,567,092 | (29,265) | −1.13
Idaho | 6,320,756 | 6,370,511 | 49,755 | 0.79
Illinois | 29,073,531 | 29,255,214 | 181,683 | 0.62
Indiana | 14,184,742 | 14,185,321 | 579 | 0.00
Iowa | 6,831,619 | 6,822,494 | (9,125) | −0.13
Kansas | 6,314,960 | 6,313,418 | (1,542) | −0.02
Kentucky | 9,278,193 | 9,330,822 | 52,629 | 0.57
Louisiana | 9,840,106 | 9,697,828 | (142,278) | −1.45
Maine | 3,758,893 | 3,788,482 | 29,589 | 0.79
Maryland | 12,082,222 | 12,124,203 | 41,981 | 0.35
Massachusetts | 14,647,014 | 14,704,420 | 57,406 | 0.39
Michigan | 24,900,399 | 25,087,225 | 186,826 | 0.75
Minnesota | 12,035,648 | 12,340,429 | 304,781 | 2.53
Mississippi | 6,795,067 | 6,745,907 | (49,160) | −0.72
Missouri | 13,234,925 | 13,316,098 | 81,173 | 0.61
Montana | 5,165,354 | 5,206,014 | 40,660 | 0.79
Nebraska | 6,207,741 | 6,256,606 | 48,865 | 0.79
Nevada | 5,202,012 | 5,753,058 | 551,046 | 10.59
New Hampshire | 2,875,081 | 2,925,586 | 50,505 | 1.76
New Jersey | 19,147,730 | 19,156,383 | 8,653 | 0.05
New Mexico | 5,796,435 | 5,842,063 | 45,628 | 0.79
New York | 41,502,859 | 41,433,656 | (69,203) | −0.17
North Carolina | 19,033,933 | 19,216,352 | 182,419 | 0.96
North Dakota | 5,259,876 | 5,301,280 | 41,404 | 0.79
Ohio | 26,623,377 | 26,981,411 | 358,034 | 1.34
Oklahoma | 7,206,821 | 7,243,494 | 36,673 | 0.51
Oregon | 8,872,270 | 8,868,797 | (3,473) | −0.04
Pennsylvania | 27,240,395 | 27,184,396 | (55,999) | −0.21
Puerto Rico | 8,635,065 | 8,668,212 | 33,147 | 0.38
Rhode Island | 2,546,416 | 2,550,164 | 3,748 | 0.15
South Carolina | 10,158,224 | 10,173,257 | 15,033 | 0.15
South Dakota | 4,861,334 | 4,899,601 | 38,267 | 0.79
Tennessee | 13,096,271 | 13,124,545 | 28,274 | 0.22
Texas | 49,560,678 | 49,518,743 | (41,935) | −0.08
Utah | 8,148,564 | 8,030,744 | (117,820) | −1.45
Vermont | 2,277,326 | 2,295,252 | 17,926 | 0.79
Virginia | 15,084,682 | 15,191,777 | 107,095 | 0.71
Washington | 14,784,734 | 14,814,472 | 29,738 | 0.20
West Virginia | 5,564,277 | 5,608,077 | 43,800 | 0.79
Wisconsin | 13,108,238 | 13,355,215 | 246,977 | 1.88
Wyoming | 3,771,659 | 3,801,348 | 29,689 | 0.79
State Total | 696,181,804 | 701,661,936 | 5,480,132 | 0.79
Guam | 326,555 | 329,126 | 2,571 | 0.79
Virgin Islands | 1,374,641 | 1,385,462 | 10,821 | 0.79
Outlying Areas Total | 1,701,196 | 1,714,588 | 13,392 | 0.79
Postage Reserve | 18,000,000 | 0 | (18,000,000) | −100.00
* Does not reflect postage conversion funds distribution to States.

Attachment VI

U.S. Department of Labor Employment and Training Administration—Workforce Information Grants to States
[PY 2008 vs PY 2007 allotments]
State | PY 2007 * | PY 2008 | Difference | Percent difference
Total | $31,680,000 | $31,863,448 | $183,448 | 0.58
Alabama | 497,844 | 517,479 | 19,635 | 3.94
Alaska | 276,788 | 286,532 | 9,744 | 3.52
Arizona | 588,028 | 616,560 | 28,532 | 4.85
Arkansas | 402,754 | 413,079 | 10,325 | 2.56
California | 2,377,436 | 2,478,254 | 100,818 | 4.24
Colorado | 549,657 | 573,969 | 24,312 | 4.42
Connecticut | 456,335 | 473,938 | 17,603 | 3.86
Delaware | 288,928 | 298,422 | 9,494 | 3.29
District of Columbia | 270,584 | 283,018 | ,12,434 | 4.60
Florida | 1,305,486 | 1,374,721 | 69,235 | 5.30
Georgia | 798,817 | 838,696 | 39,879 | 4.99
Hawaii | 313,441 | 323,871 | 10,430 | 3.33
Idaho | 326,403 | 337,015 | 10,612 | 3.25
Illinois | 1,022,617 | 1,069,456 | 46,839 | 4.58
Indiana | 627,413 | 644,569 | 17,156 | 2.73
Iowa | 437,464 | 448,792 | 11,328 | 2.59
Kansas | 413,513 | 425,973 | 12,460 | 3.01
Kentucky | 479,042 | 497,690 | 18,648 | 3.89
Louisiana | 464,464 | 490,060 | 25,596 | 5.51
Maine | 321,718 | 331,693 | 9,975 | 3.10
Maryland | 595,123 | 615,226 | 20,103 | 3.38
Massachusetts | 641,320 | 664,696 | 23,376 | 3.64
Michigan | 851,816 | 867,507 | 15,691 | 1.84
Minnesota | 590,980 | 607,538 | 16,558 | 2.80
Mississippi | 394,758 | 406,084 | 11,326 | 2.87
Missouri | 602,038 | 620,388 | 18,350 | 3.05
Montana | 295,622 | 305,158 | 9,536 | 3.23
Nebraska | 354,185 | 364,663 | 10,478 | 2.96
Nevada | 387,101 | 408,405 | 21,304 | 5.50
New Hampshire | 324,226 | 335,465 | 11,239 | 3.47
New Jersey | 775,725 | 798,971 | 23,246 | 3.00
New Mexico | 350,006 | 359,736 | 9,730 | 2.78
New York | 1,381,028 | 1,410,985 | 29,957 | 2.17
North Carolina | 765,938 | 801,477 | 35,539 | 4.64
North Dakota | 279,041 | 288,534 | 9,493 | 3.40
Ohio | 949,774 | 980,145 | 30,371 | 3.20
Oklahoma | 447,271 | 457,593 | 10,322 | 2.31
Oregon | 462,032 | 480,629 | 18,597 | 4.03
Pennsylvania | 995,426 | 1,019,875 | 24,449 | 2.46
PuertoRico | 405,531 | 416,785 | 11,254 | 2.78
Rhode Island | 304,861 | 314,993 | 10,132 | 3.32
South Carolina | 490,073 | 508,915 | 18,842 | 3.84
South Dakota | 287,507 | 297,541 | 10,034 | 3.49
Tennessee | 591,810 | 617,264 | 25,454 | 4.30
Texas | 1,611,388 | 1,667,706 | 56,318 | 3.49
Utah | 392,287 | 408,862 | 16,575 | 4.23
Vermont | 278,919 | 288,250 | 9,331 | 3.35
Virginia | 716,429 | 742,865 | 26,436 | 3.69
Washington | 637,419 | 659,818 | 22,399 | 3.51
West Virginia | 333,335 | 344,123 | 10,788 | 3.24
Wisconsin | 605,539 | 623,722 | 18,183 | 3.00
Wyoming | 270,213 | 279,270 | 9,057 | 3.35
State Total | 30,587,453 | 31,686,976 | 1,099,523 | 3.59
Guam | 91,238 | 92,716 | 1,478 | 1.62
Virgin Islands | 82,589 | 83,756 | 1,167 | 1.41
Outlying Areas Total | 173,827 | 176,472 | 2,645 | 1.52
Postage Reserve | 918,720 | 0 | (918,720) | −100.00
* Does not reflect postage conversion funds distribution to States.

Attachment VII

U.S. Department of Labor Employment and Training Administration—Work Opportunity Tax Credits
[FY 2008 vs FY 2007 State allotments]
State | FY 2007 * | FY 2008 | Difference | Percent difference
Total | $17,677,000 | $17,368,183 | ($308,817) | −1.7
Alabama | 262,894 | 252,718 | (10,176) | −3.9
Alaska | 64,000 | 66,000 | 2,000 | 3.1
Arizona | 268,926 | 258,517 | (10,409) | −3.9
Arkansas | 241,801 | 242,829 | 1,028 | 0.4
California | 1,857,628 | 1,897,525 | 39,897 | 2.1
Colorado | 205,336 | 218,526 | 13,190 | 6.4
Connecticut | 200,861 | 193,086 | (7,775) | −3.9
Delaware | 64,000 | 66,000 | 2,000 | 3.1
District of Columbia | 64,000 | 66,000 | 2,000 | 3.1
Florida | 699,871 | 672,782 | (27,089) | −3.9
Georgia | 402,205 | 386,637 | (15,568) | −3.9
Hawaii | 64,000 | 66,000 | 2,000 | 3.1
Idaho | 64,000 | 66,000 | 2,000 | 3.1
Illinois | 828,265 | 796,206 | (32,059) | −3.9
Indiana | 543,327 | 522,297 | (21,030) | −3.9
Iowa | 199,861 | 232,924 | 33,063 | 16.5
Kansas | 155,335 | 152,605 | (2,730) | −1.8
Kentucky | 282,557 | 271,620 | (10,937) | −3.9
Louisiana | 353,685 | 395,674 | 41,989 | 11.9
Maine | 64,000 | 77,713 | 13,713 | 21.4
Maryland | 328,353 | 315,644 | (12,709) | −3.9
Massachusetts | 295,577 | 318,416 | 22,839 | 7.7
Michigan | 694,320 | 667,446 | (26,874) | −3.9
Minnesota | 275,972 | 265,290 | (10,682) | −3.9
Mississippi | 179,281 | 172,342 | (6,939) | −3.9
Missouri | 441,940 | 503,453 | 61,513 | 13.9
Montana | 64,000 | 66,000 | 2,000 | 3.1
Nebraska | 128,798 | 140,605 | 11,807 | 9.2
Nevada | 100,318 | 96,435 | (3,883) | −3.9
New Hampshire | 64,000 | 66,000 | 2,000 | 3.1
New Jersey | 494,734 | 475,585 | (19,149) | −3.9
New Mexico | 137,307 | 155,598 | 18,291 | 13.3
New York | 925,004 | 972,546 | 47,542 | 5.1
North Carolina | 476,067 | 519,855 | 43,788 | 9.2
North Dakota | 64,000 | 66,000 | 2,000 | 3.1
Ohio | 869,949 | 836,277 | (33,672) | −3.9
Oklahoma | 161,473 | 163,048 | 1,575 | 1.0
Oregon | 178,184 | 171,287 | (6,897) | −3.9
Pennsylvania | 691,697 | 664,924 | (26,773) | −3.9
Puerto Rico | 101,935 | 97,989 | (3,946) | −3.9
Rhode Island | 70,135 | 67,420 | (2,715) | −3.9
South Carolina | 180,748 | 173,752 | (6,996) | −3.9
South Dakota | 64,000 | 66,000 | 2,000 | 3.1
Tennessee | 767,120 | 737,428 | (29,692) | −3.9
Texas | 1,177,538 | 1,276,601 | 99,063 | 8.4
Utah | 104,280 | 126,624 | 22,344 | 21.4
Vermont | 64,000 | 66,000 | 2,000 | 3.1
Virginia | 368,347 | 354,090 | (14,257) | −3.9
Washington | 320,913 | 389,674 | 68,761 | 21.4
West Virginia | 137,684 | 132,355 | (5,329) | −3.9
Wisconsin | 266,141 | 255,840 | (10,301) | −3.9
Wyoming | 64,000 | 66,000 | 2,000 | 3.1
State Total | 17,144,367 | 17,348,183 | 203,816 | 1.2
Virgin Islands | 20,000 | 20,000 | 0 | 0.0
Postage Reserve | 512,633 | 0 | (512,633) | −100.0
* Does not reflect postage conversion funds distribution to States.

Dated: April 1, 2008.
Brent R. Orrell,
Acting Assistant Secretary.

[FR Doc. E8-7125 Filed 4-4-08; 8:45 am]

BILLING CODE 4510-FN-P